DEPARTMENT OF ENERGY

Federal Energy Regulatory Commission

Combined Notice of Filings #1

Take notice that the Commission received the following exempt wholesale generator filings:

Docket Numbers: EG20-230-000.

Applicants: Moss Landing Energy Storage 1, LLC.

Description: Notice of Self-Certification of Exempt Wholesale Generator Status of Moss Landing Energy Storage 1, LLC.

Filed Date: 8/12/20.

Accession Number: 20200812-5065.

Comments Due: 5 p.m. ET 9/2/20.

Docket Numbers: EG20-231-000.

Applicants: Moss Landing Energy Storage 2, LLC.

Description: Notice of Self-Certification of Exempt Wholesale Generator Status of Moss Landing Energy Storage 2, LLC.

Filed Date: 8/12/20.

Accession Number: 20200812-5066.

Comments Due: 5 p.m. ET 9/2/20.

Take notice that the Commission received the following electric rate filings:

Docket Numbers: ER20-2125-000.

Applicants: WGP Redwood Holdings, LLC.

Description: Supplement to June 22, 2020 WGP Redwood Holdings, LLC tariff filing.

Filed Date: 8/4/20.

Accession Number: 20200804-5200.

Comments Due: 5 p.m. ET 8/25/20.

Docket Numbers: ER20-2289-001.

Applicants: Southwest Power Pool, Inc.

Description: Tariff Amendment: 3704 Union Electric, Evergy Missouri West & MISO Int Agr to be effective 8/30/2020.

Filed Date: 8/12/20.

Accession Number: 20200812-5050.

Comments Due: 5 p.m. ET 9/2/20.

Docket Numbers: ER20-2646-000.

Applicants: Arizona Public Service Company.

Description: § 205(d) Rate Filing: Rate Schedule No. 217, Exhibit B.Bke-LIB to be effective 10/11/2020.

Filed Date: 8/11/20.

Accession Number: 20200811-5112.

Comments Due: 5 p.m. ET 9/1/20.

Docket Numbers: ER20-2647-000.

Applicants: Morgantown Steam, LLC.

Description: § 205(d) Rate Filing: Notice of Succession to be effective 8/4/2020.

Filed Date: 8/11/20.

Accession Number: 20200811-5116.

Comments Due: 5 p.m. ET 9/1/20.

Docket Numbers: ER20-2648-000.

Applicants: Northern Divide Wind, LLC.

Description: Baseline eTariff Filing: Northern Divide Wind, LLC Application for MBR Authority to be effective 10/12/2020.

Filed Date: 8/12/20.

Accession Number: 20200812-5021.

Comments Due: 5 p.m. ET 9/2/20.

Docket Numbers: ER20-2649-000.

Applicants: PJM Interconnection, L.L.C.

Description: Notice of Cancellation of Interconnection Service Agreement of PJM Interconnection, L.L.C.

Filed Date: 8/11/20.

Accession Number: 20200811-5149.

Comments Due: 5 p.m. ET 9/1/20.

Docket Numbers: ER20-2650-000.

Applicants: Tri-State Generation and Transmission Association, Inc.

Description: § 205(d) Rate Filing: Rate Schedule FERC No. 273 between Tri-State and YWEA to be effective 8/13/2020.

Filed Date: 8/12/20.

Accession Number: 20200812-5023.

Comments Due: 5 p.m. ET 9/2/20.

Docket Numbers: ER20-2651-000.

Applicants: Midcontinent Independent System Operator, Inc., Otter Tail Power Company.

Description: § 205(d) Rate Filing: 2020-08-12_SA 3542 NSP-OTP-OTP T-T Deuel (J526) to be effective 8/7/2020.

Filed Date: 8/12/20.

Accession Number: 20200812-5042.

Comments Due: 5 p.m. ET 9/2/20.

Docket Numbers: ER20-2652-000.

Applicants: Midcontinent Independent System Operator, Inc., Otter Tail Power Company.

Description: § 205(d) Rate Filing: 2020-08-12_SA 3543 NSP-OTP-OTP (Astoria) T-T (J493 J510) to be effective 8/7/2020.

Filed Date: 8/12/20.

Accession Number: 20200812-5043.

Comments Due: 5 p.m. ET 9/2/20.

Docket Numbers: ER20-2653-000.

Applicants: PJM Interconnection, L.L.C.

Description: § 205(d) Rate Filing: Amendment to ISA, SA No. 568; Queue No. A28 (amend) to be effective 12/19/2000.

Filed Date: 8/12/20.

Accession Number: 20200812-5055.

Comments Due: 5 p.m. ET 9/2/20.

Docket Numbers: ER20-2654-000.

Applicants: Clear Power LLC.

Description: Baseline eTariff Filing: Clear Power Market Based Rate Baseline Filing to be effective 8/12/2020.

Filed Date: 8/12/20.

Accession Number: 20200812-5072.

Comments Due: 5 p.m. ET 9/2/20.

Docket Numbers: ER20-2655-000.

Applicants: PJM Interconnection, L.L.C.

Description: § 205(d) Rate Filing: Original ISA, SA No. 5725; Queue No. AE1-039 and Cancellation of SA No. 3265 to be effective 7/13/2020.

Filed Date: 8/12/20.

Accession Number: 20200812-5115.

Comments Due: 5 p.m. ET 9/2/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2020.
Nathaniel J. Davis, Sr.,
Deputy Secretary.

[FR Doc. 2020-18025 Filed 8-17-20; 8:45 am]

BILLING CODE 6717-01-P